DEPARTMENT OF HEALTH AND HUMAN SERVICES

Substance Abuse and Mental Health Services Administration

Center for Substance Abuse Treatment

Notice of Meeting

Notice is hereby given of the meeting on September 22, 2020 of the Substance Abuse and Mental Health Services Administration's (SAMHSA) Center for Substance Abuse Treatment (CSAT) National Advisory Council (NAC).

The meeting is open to the public and can be accessed remotely via WebEx and telephone only. It will include consideration of minutes from the SAMHSA CSAT NAC meeting of March 26, 2020; an update on CSAT activities; a discussion on SAMHSA's Strategic Plan; a discussion on SAMHSA's response to prevent suicide due to the COVID-19 Pandemic; and a discussion on the latest findings from the National Survey on Drug Use and Health (NSDUH).

Interested persons may present data, information, or views, orally or in writing, on issues pending before the Council. Written submissions should be forwarded to the contact person on or before September 15, 2020. Oral presentations from the public will be scheduled at the conclusion of the meeting. Individuals interested in making oral presentations must notify the contact person on or before September 15, 2020. Up to five minutes will be allotted for each presentation.

Registration is required to participate during this meeting. To attend virtually, or to obtain the call-in number and access code, submit written or brief oral comments, or request special accommodations for persons with disabilities, please register on-line at http://snacregister.samhsa.gov/MeetingList.aspx, or communicate with the contact person.

Meeting information and a roster of Council members may be obtained by accessing the SAMHSA Committee website at http://www.samhsa.gov/about-us/advisory-councils/csat-national-advisory-council or the contact person.

Council Name: SAMHSA's Center for Substance Abuse Treatment National Advisory Council.

Date/Time/Type: September 22, 2020, 1:00 p.m.-6:00 p.m. EDT, Open.

Place: SAMHSA, 5600 Fishers Lane, Rockville, Maryland 20857.

Contact: Tracy Goss, Designated Federal Officer, CSAT National Advisory Council, 5600 Fishers Lane, Rockville, Maryland 20857 (mail), Telephone: (240) 276-0759, Email: tracy.goss@samhsa.hhs.gov.

Authority: Public Law 92-463

Dated: August 13, 2020.
Carlos Castillo,
Committee Management Officer, SAMHSA.

[FR Doc. 2020-18117 Filed 8-18-20; 8:45 am]

BILLING CODE 4162-20-P